DEPARTMENT OF HEALTH AND HUMAN SERVICES

Substance Abuse and Mental Health Services Administration

Center for Substance Abuse Prevention; Notice of Meeting

Pursuant to Pub. L. 92-463, notice is hereby given of the meeting of the Substance Abuse and Mental Health Services Administration (SAMHSA) Drug Testing Advisory Board on June 1-2, 2005.

A portion of the meeting will be open and will include a roll call, general announcements, a Department of Health and Human Services drug testing program update, a Department of Transportation drug testing program update, and a Nuclear Regulatory Commission drug testing program update.

Attendance by the public will be limited to space available. Public comments are welcome. Please communicate with the individual listed below as contact to make arrangements to comment or to request special accommodations for persons with disabilities.

The Board will also meet to develop the analytical and administrative policies for the final revisions to the Mandatory Guidelines for Federal Workplace Drug Testing Program that were published as proposed revisions in the Federal Register on April 13, 2004 (69 FR 19673). The submissions from 285 commenters have been made available to the public on the Web site http://workplace.samhsa.gov. This meeting will be conducted in closed session since discussing such public comments in open session and then developing the policies will significantly frustrate the Department's ability to develop the final notice of revisions to the Mandatory Guidelines for Federal Workplace Drug Testing Programs. The HHS Office of General Counsel made the determination that such matters are protected by exemption 9(B) of section 552b(c) of title 5 U.S.C. and therefore may be closed to the public.

To facilitate entering the building for the open session, public attendees are required to contact Mrs. Giselle Hersh, Division of Workplace Programs, 1 Choke Cherry Road, Room 2-1042, Rockville, MD 20857, 240-276-2605 (telephone) or by e-mail to Giselle.Hersh@samhsa.hhs.gov.

Substantive program information and a roster of Board members may be obtained by accessing the SAMHSA workplace Web site (http://workplace.samhsa.gov) or communicating with the contact whose name and telephone number are listed below. The transcript for the open session will be available on the SAMHSA workplace website as soon as possible after the meeting.

Committee Name: Substance Abuse and Mental Health Services Administration Drug Testing Advisory Board.

Meeting Date: June 1-2, 2005.

Place: SAMHSA Building, Sugarloaf Room, 1 Choke Cherry Road, Rockville, Maryland 20850.

Type:

Open: June 1, 2005; 8:30 a.m.-9:30 a.m.

Closed: June 1, 2005; 9:30 a.m.-4:30 p.m.

Closed: June 2, 2005; 8:30 a.m.-4:30 p.m.

Contact: Donna M. Bush, Ph.D., Executive Secretary, 1 Choke Cherry Road, Room 2-1033, Rockville, Maryland 20857, 240-276-2600 (telephone) and 240-276-2610 (fax), E-mail: Donna.Bush@samhsa.hhs.gov.

Dated: May 5, 2005.
Toian Vaughn,
Committee Management Officer, SAMHSA.

[FR Doc. 05-9375 Filed 5-10-05; 8:45 am]

BILLING CODE 4162-20-P